SECURITIES AND EXCHANGE COMMISSION

[File No. 500-1]

In the Matter of Tamarak, Inc.; Order of Suspension of Trading

August 25, 2003.

It appears to the Securities and Exchange Commission that there is a lack of current and accurate information concerning the securities of Tamarak, Inc. (“Tamarak”) because of questions regarding the accuracy and adequacy of assertions in press releases by Tamarak, concerning, among other things: (1) Tamarak's plans and financial ability to produce and distribute a television mini-series and movie; (2) Tamarak's projected profits; (3) the purported support by the U.S. Air Force for Tamarak's film projects; and (4) purported discussions between Tamarak and major television and film studios.

The Commission is of the opinion that the public interest and the protection of investors require a suspension of trading in securities related to the above-listed company.

Therefore, it is ordered, pursuant to Section 12(k) of the Securities Exchange Act of 1934, that trading in all securities, as defined in Section 3(a)(10) of the Securities Exchange Act of 1934, issued by the above-listed company, is suspended for the period from 9:30 a.m. EDST on Monday, August 25, 2003 and terminating at 11:59 p.m. EDST on Monday, September 8, 2003.

By the Commission.
Jonathan G. Katz,
Secretary.

[FR Doc. 03-22026 Filed 8-25-03; 1:30 pm]

BILLING CODE 8010-01-P